FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 5, 2018.

A. Federal Reserve Bank of Kansas City (Dennis Denney, Assistant Vice President) 1 Memorial Drive, Kansas City, Missouri 64198-0001:

1. The Merle Wait Trust, Protection, Kansas, and co-trustees Brenda Martin and Candace Murphy, Protection, Kansas, Merle Wait, Jr., Watauga, Texas, and Elaine Philips, Arkansas City, Kansas, individually and as members of the Wait Family Control Group; to acquire The Protection Bank Holding Company, Inc. and thereby indirectly acquire The Bank of Protection, Protection, Kansas. Additionally, Tom Murphy and Hilary Murphy, both of Protection, Kansas, to be approved as members of the Wait Family Control Group.

Board of Governors of the Federal Reserve System, May 16, 2018.
Yao-Chin Chao,
Assistant Secretary of the Board.

[FR Doc. 2018-10832 Filed 5-21-18; 8:45 am]

BILLING CODE P